INTERNATIONAL TRADE COMMISSION

[Inv. No. 337-TA-458]

Certain Digital Display Receivers and Digital Display Controllers and Products Containing Same; Notice of Commission Decision Not To Review an Initial Determination Terminating the Investigation

AGENCY: International Trade Commission.

ACTION: Notice.

SUMMARY: Notice is hereby given that the U.S. International Trade Commission has determined not to review the presiding administrative law judge's (“ALJ's”) initial determination (“ID”) terminating the above-captioned investigation in its entirety by granting the unopposed motion of complainant Silicon Image, Inc. (“SII”) to withdraw its complaint and terminate the investigation.

FOR FURTHER INFORMATION CONTACT: Clara Kuehn, Esq., Office of the General Counsel, U.S. International Trade Commission, 500 E Street, SW., Washington, DC 20436, telephone (202) 205-3012. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://dockets.usitc.gov/eol/public. Hearing-impaired persons are advised that information on this matter can be obtained by contacting the Commission's TDD terminal on 202-205-1810.

SUPPLEMENTARY INFORMATION: The Commission instituted this investigation on May 29, 2001, based on a complaint filed by Silicon Image, Inc., of Sunnyvale, California (“SII”). 66 FR 29173 (2001). The notice of investigation named two respondents: Genesis Microchip Inc., of Thornhill, Ontario, Canada, and Genesis Microchip Corp. of Alviso, California (collectively, “Genesis”). Id. The complaint, as supplemented, alleges violations of section 337 of the Tariff Act of 1930 in the importation into the United States, sale for importation, and sale within the United States after importation of certain digital display receivers and digital display controllers and products containing same by reason of infringement of claims 1-12, 14, and 20 of U.S. Letters Patent 5,905,769. Id.

On December 7, 2001, complainant SII moved to withdraw the complaint and to terminate the investigation on the basis of the withdrawal of the complaint. On December 13, 2001, the Commission investigative attorney filed a response in support of the motion. On December 18, 2001, respondents Genesis filed a response stating that they did not oppose the motion. On January 24, 2002, the presiding ALJ issued an ID (Order No. 7) granting the motion. No petitions for review of the ID were filed.

The authority for the Commission's determination is contained in section 337 of the Tariff Act of 1930, as amended (19 U.S.C. 1337), and in § 210.42 of the Commission's rules of practice and procedure (19 CFR 210.42).

Issued: February 7, 2002.
By order of the Commission.
Marilyn R. Abbott,
Acting Secretary.

[FR Doc. 02-3485 Filed 2-12-02; 8:45 am]

BILLING CODE 7020-02-P